NATIONAL TRANSPORTATION SAFETY BOARD

Sunshine Act Meeting

Time and Place: 9:30 a.m., Tuesday, February 5, 2002.

Place: NTSB Conference Center, 429 L'Enfant Plaza SW., Washington, DC 20594.

Status:

The one item is open to the public.

Matter To Be Considered:

7168A: Railroad Accident Report—Collision of Amtrak Train 59 with a Loaded Truck Tractor-Semitrailer Combination at a Highway/Rail Grade Crossing in Bourbonnais, Illinois, March 15, 1999

News Media Contact: Telephone: (202) 314-6100.

Individuals requesting specific accommodations should contact Ms. Carolyn Dargan at (202) 314-6305 by Friday, February 1, 2002.

FOR MORE INFORMATION CONTACT: Vicky D'Onofrio, (202) 314-6410.

Dated: January 25, 2002.
Vicky D'Onofrio,
Federal Register Liaison Officer.

[FR Doc. 02-2243 Filed 1-25-02; 2:02 pm.]

BILLING CODE 7533-01-M